DEPARTMENT OF COMMERCE

National Oceanic and Atmospheric Administration

[I.D. 042204E]

Fisheries of the Caribbean, Gulf of Mexico, and South Atlantic; Shrimp Fishery off the Southern Atlantic States; Amendment 6

AGENCY: National Marine Fisheries Service (NMFS), National Oceanic and Atmospheric Administration (NOAA), Commerce.

ACTION: Notice of intent to prepare a draft supplemental environmental impact statement (SEIS), supplemental notice.

SUMMARY: The South Atlantic Fishery Management Council (Council) has added Federal permitting, bycatch reporting, and bycatch reduction actions to Amendment 6 of the Fishery Management Plan for the Shrimp Fishery of the South Atlantic Region (Shrimp Amendment 6). Shrimp Amendment 6 also includes actions to evaluate and redefine, as needed, biological reference points and status determination criteria, and actions to modify the bycatch reduction protocol.

ADDRESSES: Comments and requests for copies of the scoping documents should be sent to Robert K. Mahood, Executive Director, South Atlantic Fishery Management Council, One Southpark Circle, Suite 306, Charleston, SC 29407-4699, fax: 843-769-4520. Comments may also be submitted by e-mail to shrimpcomments@safmc.net. Include in the subject line of the e-mail comment the following document identifier: Shrimp Amendment 6.

FOR FURTHER INFORMATION CONTACT: Kim Iverson, Public Information Office; phone: 866-SAFMC-10 or 843-571-4366; e-mail: kim.iverson@safmc.net.

SUPPLEMENTARY INFORMATION: This notice supplements the notice of intent to prepare a draft SEIS to support Shrimp Amendment 6 (February 19, 2002, 67 FR 7344) by adding the following actions: (1) require Federal permits in the penaeid (white, pink, and brown shrimp) shrimp fishery; (2) regularly monitor and assess bycatch in the penaeid and rock shrimp fisheries; and (3) reduce bycatch in the rock shrimp fishery. These actions will be evaluated in the draft SEIS.

The purpose of the permit action is to identify and quantify the number of vessels participating in the South Atlantic penaeid shrimp fishery. Alternatives evaluated under the action would not limit access to the fishery at this time. However, the Council might consider a limited access program in the future and could use the control date of December 10, 2003, as a qualifying criterion for participation in the fishery. The Council notified the public of this control date through an advanced notice of proposed rulemaking published in the Federal Register on March 4, 2004 (69 FR 10189).

The purpose of the bycatch reporting and reduction actions is to improve the accounting and management of bycatch in the penaeid and rock shrimp fisheries, consistent with the requirements of the Magnuson-Stevens Fishery Conservation and Management Act.

Other actions in Shrimp Amendment 6 previously noticed in the Federal Register include evaluating and redefining, as needed, biological reference points and status determination criteria and modifying the bycatch reduction protocol.

The Environmental Protection Agency will publish a notice in the Federal Register when the draft SEIS is available for public comment. Comments received by the Council and NMFS during the 45-day comment period on the draft SEIS will be considered in developing the final SEIS.

Dated: April 27, 2004,
John H. Dunnigan,
Director, Office of Sustainable Fisheries, National Marine Fisheries Service.

[FR Doc. 04-9856 Filed 4-29-04; 8:45 am]

BILLING CODE 3510-22-S